DEPARTMENT OF JUSTICE

Notice of Proposed Agreement Resolving Dispute Under Consent Decree in United States v. Detroit Diesel Corporation

Notice is hereby given of a proposed Agreement Resolving Dispute Under Consent Decree (“Agreement”) in the case of United States v. Detroit Diesel Corporation, Civil Action No. 98-02548, in the United States District Court for the District of Columbia.

The Agreement resolves two matters involving DDC's alleged failure to comply with a 1999 Consent Decree settling claims under Title II of the Clean Air Act, 42 U.S.C. 7521 et seq. (the “Act”), regarding the alleged use of illegal emission-control “defeat devices” on DDC's 1998 and prior heavy-duty diesel engines (“HDDEs”). The first matter concerns DDC's use of a computer-based auxiliary emission control device (“AECD”) to control “white smoke,” i.e., visible exhaust caused by incomplete combustion of diesel fuel, on 35,667 model year 2000 Series 50 urban bus engines and model year 2001 Series 60 HDDEs. The white smoke AECD, which required EPA approval, was not accurately described in DDC's applications to EPA for regulatory “certificates of conformity” permitting the sale of the engines in the United States. The second matter concerns 2,096 model year 2003 and 2004 Series 50 urban bus engines that, under specific engine operating conditions, may emit particulate matter (“PM”) at levels higher than the “not-to-exceed” or “NTE” limit for PM imposed by the Consent Decree.

These violations are addressed through DDC's payment of stipulated penalties in the amount of $535,000, provisions for the completion of previously initiated recalls to fix the white smoke AECD and the NTE exceedance engines until at least 24,967 of the former and all of the latter have been repaired, and the mandatory continuation of a program to obtain NOX emission reductions through modifications to the engine control software (known as “early Low NOX Rebuild” from older, higher emitting engines manufactured by DDC and still in use in trucks. DDC is required to achieve at least 8,000 tons of NOX emission reductions through early Low NOX Rebuilds, and is also required to continue this program beyond the 8,000-ton requirement for so long as engines for which its Low NOX Rebuild software is available remain in service.

The Department of Justice will receive for a period of thirty (30) days from the date of this publication comments relating to the Agreement. Comments should be addressed to the Assistant Attorney General, Environment and Natural Resources Divisions, P.O. Box 7611, U.S. Department of Justice, Washington, DC 20044-7611, and should refer to United States v. Detroit Diesel Corporation, D.J. Ref. 90-5-2-1-2253.

During the public comment period, the Agreement may be examined on the following Department of Justice Web site, http://www.usdoj.gov/enrd/open.html.

A copy of the Agreement may also be obtained by mail from the Consent Decree Library, P.O. Box 7611, U.S. Department of Justice, Washington, DC, 20044-7611 or by faxing or e-mailing a request to Tonia Fleetwood (tonia.fleetwood@usdoj.gov), fax no. (202) 514-0097, phone confirmation number (202) 514-1547. In requesting a copy of the Decree from the Consent Decree Library, please enclose a check in the amount of $4.25 (25 cents per page reproduction cost for 210 pages) payable to the U.S. Treasury.

Karen Dworkin,
Assistant Chief, Environmental Enforcement Section.

[FR Doc. 05-24616 Filed 12-28-05; 8:45 am]

BILLING CODE 4410-15-M